DEPARTMENT OF THE INTERIOR

Bureau of Land Management

[LLWY-9570000-16-L13100000-PP0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These supplementals and surveys were executed at the request of the Bureau of Land Management, Bureau of Indian Affairs and Bureau of Reclamation and are necessary for the management of resources. The lands surveyed are:

The supplemental plat showing the subdivision of the SE¼SW¼NE¼NE¼ into Lots 1 and 2 and based upon the survey plat accepted March 8, 1917, Township 1 South, Range 3 East, Wind River Meridian, Wyoming, Group No. 940, was accepted July 13, 2015.

The supplemental plat showing amended lottings and based upon the dependent resurvey plat accepted July 13, 1943, Township 35 North, Range 88 West, Sixth Principal Meridian, Wyoming, Group No. 944, was accepted July 13, 2015.

The plats and field notes representing the dependent resurvey of a portion of the south boundary, portions of the subdivisional lines, and adjusted 1909 meanders of the Green River, and the survey of the subdivision of sections 31 and 35, Township 23 North, Range 110 West, Sixth Principal Meridian, Wyoming, Group No. 893, was accepted September 8, 2015.

The plat and field notes representing the dependent resurvey of a portion of the west boundary, portions of the subdivisional lines, the survey of the subdivision of section 19, and the metes-and-bounds survey of Lot 7, section 19, Township 56 North, Range 97 West, Sixth Principal Meridian, Wyoming, Group No. 910, was accepted September 8, 2015.

The plat and field notes representing the corrective dependent resurvey of a portion of the subdivisional lines and a portion of the subdivision of section 20, Township 1 North, Range 4 East, Wind River Meridian, Wyoming, Group No. 911, was accepted September 8, 2015.

The plat and field notes representing the dependent resurvey of a portion of the subdivisional lines, Township 12 North, Range 117 West, Sixth Principal Meridian, Wyoming, Group No. 912, was accepted September 8, 2015.

The plat and field notes representing the dependent resurvey of a portion of the subdivisional lines and the survey of the subdivision of section 22, Township 19 North, Range 85 West, Sixth Principal Meridian, Wyoming, Group No. 915, was accepted September 8, 2015.

The plat and field notes representing the dependent resurvey of a portion of the north boundary and a portion of the subdivisional lines, and the survey of the subdivision of sections 2 and 3, Township 13 North, Range 84 West, Sixth Principal Meridian, Wyoming, Group No. 916, was accepted November 18, 2015.

The plat and field notes representing the survey of the subdivision of sections 34 and 35, Township 14 North, Range 84 West, Sixth Principal Meridian, Wyoming, Group No. 917, was accepted November 18, 2015.

The supplemental plat showing amended lottings, and based upon the dependent resurvey plat accepted March 24, 2006 and survey plat accepted July 20, 1859, Township 31 North, Range 4 West, of the Sixth Principal Meridian, Nebraska, Group No. 185, was accepted December 10, 2015.

The supplemental plat showing amended lottings, and based upon the dependent resurvey plat accepted March 24, 2006 and survey plat accepted July 20, 1859, Township 32 North, Range 4 West, of the Sixth Principal Meridian, Nebraska, Group No. 185, was accepted December 10, 2015.

The supplemental plat showing amended lottings, and based upon the dependent resurvey plat accepted September 28, 2006 and survey plat accepted July 20, 1859, Township 32 North, Range 5 West, of the Sixth Principal Meridian, Nebraska, Group No. 185, was accepted December 10, 2015.

Copies of the preceding described plats and field notes are available to the public at a cost of $1.10 per page.

Dated: December 16, 2015.
John P. Lee,
Chief Cadastral Surveyor, Division of Support Services.

[FR Doc. 2015-32111 Filed 12-21-15; 8:45 am]

BILLING CODE 4310-22-P